DEPARTMENT OF HEALTH AND HUMAN SERVICES

National Institutes of Health

National Institute of Child Health and Human Development; Notice of Meeting

Pursuant to section 10(a) of the Federal Advisory Committee Act, as amended (5 U.S.C. Appendix 2), notice is hereby given of a meeting of the National Children's Study Assembly and Working Group Meetings. The parent committee for this workgroup is the National Children's Study of Environmental Effects on Health Advisory Committee.

The meetings will be open to the public, with attendance limited to space available. Individuals who plan to attend and need special assistance, such as sign language interpretation or other reasonable accommodations, should notify the Logistics Coordinator at the e-mail or phone number listed below in advance of the meeting. To register for the meetings, visit the conference Web site at: http://www.circlesolutions.com/ncs, send an e-mail to ncs@circlesolutions.com, or call 703-902-1339.

Name of Committee: National Children's Study Assembly and Working Groups.

Date: December 16-18, 2002.

Time:

Registration: December 15, 2002, 4 p.m. to 7 p.m.; December 16, 2002, 7:30 a.m. to 5 p.m.; December 17, 2002, 7:30 a.m. to 7 p.m.; December 18, 2002, 7:30 a.m. to 5 p.m.

Study Assembly; December 17, 2002, 8:30 a.m. to 12 p.m.

Working Groups: December 17, 2002, 1 p.m. to 5 p.m.; December 18, 2002, 8:30 a.m. to 4 p.m.

Agenda: To discuss the status of planning this longitudinal study of environmental effects on the well-being of children. Content of the meeting will include a status report on development of planning for the study thus far, and reports on specific issues including for example, proposed hypotheses for the Study, study design issues, and the timeline for the remainder of the planning phase. The Study Assembly is made up of all stakeholders interested in the Study. Its purpose is to disseminate information to members and to serve as a conduit for bringing information and views from individuals and various organizations to the Study organization. The Study Assembly is open to anyone who indicates an interest in the Study, and includes representatives of all stakeholders, both inside and outside of government, advocacy groups, industry, academic institutions, state and local governments, and community groups. To become a member of the Study Assembly, interested persons should send an e-mail to: NCS@mail.nib.gov. Study Assembly members are welcome as observers during the other open meetings of this series. The National Children's Study of Environmental Effects on Health Advisory Committee will be held at the same location on December 17-18, 2002, 8 a.m. to 5 p.m.

Place: Baltimore Marriott Waterfront Hotel, 700 Aliceanna Street, Baltimore, MD 21202.

Contact Person: Peter M. Scheidt, M.D., Medical Officer, Division of Epidemiology, Statistics and Prevention Research, National Institute of Child Health and Human Development, NIH, 6100 Executive Boulevard, Room 5C01, Bethesda, MD 20892, (301) 451-6421, NCS@mail.nih.gov.

(Catalogue of Federal Domestic Assistance Program Nos. 93.209, Contraception and Infertility Loan Repayment Program; 93.864, Population Research; 93.865, Research for Mothers and Children; 93.929, Center for Medical Rehabilitation Research, National Institutes of Health, (HHS))
Dated: November 21, 2002.
LaVerne Y. Stringfield,
Director, Office of Federal Advisory Committee Policy.

[FR Doc. 02-30234 Filed 11-27-02; 8:45 am]

BILLING CODE 4140-01-M